DEPARTMENT OF AGRICULTURE

Agricultural Marketing Service

[Doc. No. LS-03-07]

Request for an Extension of and Revision to a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request approval from the Office of Management and Budget, for an extension of and revision to the currently approved information collection for the Seed Service Testing Program.

DATES: Comments received by September 15, 2003 will be considered.

Additional Information or Comments: Contact Richard C. Payne, Chief, Seed Regulatory and Testing Branch (SRTB), Livestock and Seed Program, Agricultural Marketing Service, U.S. Department of Agriculture, 801 Summit Crossing Place, Suite C, Gastonia, North Carolina 28054-2193; telephone (704) 810-8871 and Fax number (704) 852-4189.

SUPPLEMENTARY INFORMATION: Title: Seed Service Testing Program.

OMB Number: 0581-0140.

Expiration Date of Approval: May 31, 2004.

Type of Request: Extension and revision of a currently approved information collection.

Abstract: This information collection is necessary to conduct voluntary seed testing on a fee for service basis. The Agricultural Marketing Act of 1946, as amended, 7 U.S.C. 1621 et seq. authorizes the Secretary to inspect and certify the quality of agricultural products and collect such fees as reasonable to cover the cost of service rendered.

The purpose of the voluntary program is to promote efficient, orderly marketing of seeds, and assist in the development of new and expanding markets. Under the program, samples of agricultural and vegetable seeds submitted to AMS are tested for factors such as purity and germination at the request of the applicant for the service. In addition, grain samples, submitted at the applicant's request, by the Grain Inspection, Packers, and Stockyards Administration are examined for the presence of certain weed and crop seed. A Federal Seed Analysis Certificate is issued giving the test results. Most of the seed tested under this program is scheduled for export. Many importing countries require a Federal Seed analysis Certificate on U.S. seed.

The only information collected is information needed to provide the service requested by the applicant. This includes information to identify the seed being tested, the seed treatment (if treated with a pesticide), the tests to be performed, and any other appropriate information required by the applicant to be on the Federal Seed Analysis Certificate.

The number of seed companies applying for the seed testing service has increased from 65 to 82 during the past 3 years due to an increase in the number of companies exporting seed. The total number of samples received for testing has increased also. Therefore, the average burden for information collection has remained about the same for seed companies applying for the service.

The information in this collection is used only by authorized AMS employees to track, test, and report results to the applicant.

Estimate of Burden: Public reporting burden for this collection of information is estimated to average .25 hours per response.

Respondents: Applicants for seed testing service.

Estimated Number of Respondents: 82.

Estimated Number of Responses per Respondent: 24.3.

Estimated Total Annual Burden on Respondents: 498.5 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Richard C. Payne, Chief, Seed Regulatory and Testing Branch, LS, AMS, USDA, 801 Summit Crossing Place, Suite C, Gastonia, North Carolina 28054-2193 or by E-mail to richard.payne2@usda.gov. All comments received will be available for public inspection during regular business hours at the same address.

All responses to this notice will be summarized and included in the request for OMB approval. All comments will become a matter of public record.

Dated: July 9, 2003.
A.J. Yates,
Administrator, Agricultural Marketing Service.

[FR Doc. 03-17801 Filed 7-14-03; 8:45 am]

BILLING CODE 3410-02-P